CORPORATION FOR NATIONAL AND COMMUNITY SERVICE

Agency Information Collection Activities; Submission to the Office of Management and Budget for Review and Approval; Comment Request; Request To Transfer a Segal Education Award Amount, Accept/Decline Award Transfer Form, Request To Revoke Transfer of Education Award Form, and Rescind Acceptance of Award Transfer Form

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents can be properly assessed.

Currently, CNCS is soliciting comments concerning its proposed renewal of the Award Transfer forms: Request to Transfer a Segal Education Award Amount, Accept/Decline Award Transfer Form, Request to Revoke Transfer of Education Award Form, and Rescind Acceptance of Award Transfer Form. These forms enable AmeriCorps members and recipients to meet the legal requirements of the award transfer process. Copies of the information collection requests can be obtained by contacting the office listed in the Addresses section of this Notice.

Copies of this information collection request, with applicable supporting documentation, may be obtained by calling the Corporation for National and Community Service, Nahid Jarrett, at 202-606-6753 or email to njarrett@cns.gov. Individuals who use a telecommunications device for the deaf (TTY-TDD) may call 1-800-833-3722 between 8:00 a.m. and 8:00 p.m. Eastern Time, Monday through Friday.

DATES: Comments may be submitted, identified by the title of the information collection activity, by November 17, 2017.

ADDRESSES: Comments may be submitted, identified by the title of the information collection activity, to the Office of the National Service Trust, Attn: Ms. Nahid Jarrett, Trust Officer for the Corporation for National and Community Service, by any of the following two methods within 30 days from the date of publication in the Federal Register:

(1) Electronically through www.regulations.gov.

(2) By mail sent to: Corporation for National and Community Service, National Service Trust, Attention: Nahid Jarrett, 250 E. St. SW., Washington, DC 20525.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Current Action

CNCS seeks to renew the current information. Except to add the categories of stepchild and step grandchild to the list of qualified recipients of the award transfer, only slight formatting and editing changes have been made.

The information collection will otherwise be used in the same manner as the existing application. CNCS also seeks to continue using the current forms until the revised forms are approved by OMB. The current information collection is due to expire on September 30, 2017.

Description: AmeriCorps members may offer to transfer all or part of their qualified education awards to certain family members. Provision is made to accept the transfer or not, to rescind acceptance or revoke the transfer. These processes are implemented electronically where possible but paper forms are available if necessary.

Type of Review: Renewal.

Agency: Corporation for National and Community Service.

Title: Request to Transfer a Segal Education Award Amount, Accept/Decline Award Transfer Form, Request to Revoke Transfer of Education Award Form, and Rescind Acceptance of Award Transfer Form.

OMB Number: 3045-0136.

Agency Number: None.

Affected Public: AmeriCorps members with eligible education awards and qualified recipients.

Total Respondents: 1420.

Frequency: Annually.

Average Time per Response: Averages 5 minutes.

Estimated Total Burden Hours: 118.33.

Total Burden Cost (capital/startup): None.

Total Burden Cost (operating/maintenance): None.

Comments submitted in response to this notice will be summarized and/or included in the request for Office of Management and Budget approval of the information collection request; they will also become a matter of public record.

Dated: October 13, 2017.
Maggie Taylor-Coates,
Director of the Office of the National Service Trust.

[FR Doc. 2017-22640 Filed 10-17-17; 8:45 am]

BILLING CODE 6050-28-P